DEPARTMENT OF JUSTICE

Drug Enforcement Administration

Allison E. Purtell, M.D., Revocation of Registration

On June 14, 2001, the Deputy Assistant Administrator, Office of Diversion Control, Drug Enforcement Administration (DEA), issued an Order to Show Cause (OTSC) by certified mail to Allison E. Purtell, M.D., notifying her of an opportunity to show cause as to why the DEA should not revoke her DEA Certificate of Registration, AP1775064, pursuant to 21 U.S.C. 824(a)(3), and deny any pending applications for renewal of such registration pursuant to 21 U.S.C. 823(f), on the grounds that Dr. Purtell was not authorized by the State of California to handle controlled substances. The order also notified Dr. Purtell that should no request for hearing be filed within 30 days, her right to a hearing would be deemed waived.

The OTSC was sent to Dr. Purtell at her DEA registered premises in Laguna Niguel, California. A postal delivery receipt was signed July 6, 2001, by Dr. Purtell, indicating the OTSC was received. To date, no response has been received from Dr. Purtell nor anyone purporting to represent her.

Therefore, the Deputy Administrator, finding that (1) 30 days having passed since the receipt of the Order to Show Cause, and (2) no request for a hearing having been received, concludes that Dr. Purtell is deemed to have waived her right to a hearing. Following a complete review of the investigative file in this matter, the Deputy Administrator now enters his final order without a hearing pursuant to 21 CFR 1301.43(d) and (e), and 1301.46.

The Deputy Administrator finds as follows. Dr. Purtell currently possesses DEA Certificate of Registration AP1775064, issued to her in California. By Decision of the Division of Medical Quality, California Medical Board (Board), dated March 3, 2000 and effective April 3, 2000, the Board adopted an opinion of an Administrative Law Judge revoking Dr. Purtell's Physician and Surgeon's Certificate, finding inter alia, negligence, incompetence, and that “Dr. Purtell engaged in unprofessional conduct based on repeated acts of clearly excessive prescribing drugs as determined by the standard of the community of physician and surgeons.” The investigative file contains no evidence that Dr. Purtell's medical license has been reinstated.

Therefore, the Deputy Administrator concludes that Dr. Purtell is not currently licensed or authorized to handle controlled substances in California.

The DEA does not have the statutory authority pursuant to the Controlled Substances Act to issue or to maintain a registration if the applicant or registrant is without state authority to handle controlled substances in the state in which he or she practices. See 21 U.S.C. 823(f), and 824(a)(3). This prerequisite has been consistently upheld in prior DEA cases. See Graham Travers Schuler, M.D., 65 FR 50,570 (2000); Romeo J. Perez, M.D., 62 FR 16,193 (1997); Demetris A. Green, M.D., 61 FR 60,728 (1996); Dominick A. Ricci, M.D., 58 FR 51,104 (1993).

In the instant case, the Deputy Administrator finds the Government has presented evidence demonstrating that Dr. Purtell is not authorized to practice medicine in California, and therefore, the Deputy Administrator infers that Dr. Purtell is also not authorized to handle controlled substances in California, the state in which she holds her DEA Certificate of Registration.

Accordingly, the Deputy Administrator of the Drug Enforcement Administration, pursuant to the authority vested in him by 21 U.S.C. 823 and 824 and 28 CFR 0.100(b) and 0.104, hereby orders that the DEA Certificate of Registration AP1775064, previously issued to Allison E. Purtell, M.D., be, and it hereby is, revoked. The Deputy Administrator hereby further orders that any pending applications for renewal or modification of said registration be, and hereby are, denied. This order is effective June 19, 2002.

Dated: May 6, 2002.
John B. Brown III,
Deputy Administrator.

[FR Doc. 02-12482 Filed 5-17-02; 8:45 am]

BILLING CODE 4410-09-M